DEPARTMENT OF JUSTICE

Antitrust Division

Notice Pursuant to the National Cooperative Research and Production Act of 1993—Automated Driving Behaviors Consortium

Notice is hereby given that, on June 1, 2018, pursuant to Section 6(a) of the National Cooperative Research and Production Act of 1993, 15 U.S.C. 4301 et seq. (“the Act”), Automated Driving Behaviors Consortium (“ADB Consortium”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: FCA USA LLC, Auburn Hills, MI; Ford Motor Company, Dearborn, MI; General Motors LLC, Warren, MI; Hyundai America Technical Center, Inc., Superior Township, MI; Mercedes-Benz Research & Development North America, Ann Arbor, MI; Nissan Technical Center N.A., Farmington Hills, MI; Toyota Motor North America, Plano, Texas; and Volkswagen Group of America, Inc., Auburn Hills, MI.

The general area of ADB Consortium's planned activity is to fund and conduct multiple research projects limited to specific areas with specifically-defined technical goals which the participants believe will speed the development and ultimate consumer access to safe vehicles equipped with Automated Driving Systems (ADS). ADB Consortium's objectives are to gain further knowledge and understanding of ADS-equipped vehicle interactions with public safety through research into common operational use cases.

Suzanne Morris,
Chief, Premerger and Division Statistics Unit, Antitrust Division.

[FR Doc. 2018-13674 Filed 6-25-18; 8:45 am]

BILLING CODE 4410-11-P